NUCLEAR REGULATORY COMMISSION

Proposed License Renewal Interim Staff Guidance LR-ISG-2006-03: Staff Guidance for Preparing Severe Accident Mitigation Alternatives (SAMA) Analyses; Solicitation of Public Comment

AGENCY: Nuclear Regulatory Commission (NRC).

ACTION: Solicitation of public comment.

SUMMARY: NRC is soliciting public comment on its Proposed License Renewal Interim Staff Guidance LR-ISG-2006-03 (LR-ISG) for preparing Severe Accident Mitigation Alternatives (SAMA) analyses. This LR-ISG recommends that applicants for license renewal use the Guidance Document NEI 05-01, Rev. A (ADAMS Accession No. ML060530203) when preparing their SAMA analyses. The NRC staff issues LR-ISGs to facilitate timely implementation of the license renewal rule and to review activities associated with a license renewal application. Upon reviewing public comments, the NRC staff will evaluate the comments and make a determination to incorporate the comments, as appropriate. Once the NRC completes the LR-ISG, it will issue the LR-ISG for NRC and industry use. The NRC staff will also incorporate the approved LR-ISG into the next revision of Supplement 1 to Regulatory Guide 4.2, “Preparation of Supplemental Environmental Reports for Applications to Renew Nuclear Power Plant Operating Licenses.”

DATES: Comments may be submitted by September 18, 2006. Comments received after this date will be considered, if it is practical to do so, but the Commission is to ensure consideration only for comments received on or before this date.

ADDRESSES: Comments may be submitted to: Chief, Rules and Directives Branch, Office of Administration, U.S. Nuclear Regulatory Commission, Washington, DC 20555-0001.

Comments should be delivered to: 11545 Rockville Pike (first floor), Rockville, Maryland, Room T-6D59, between 7:30 a.m. and 4:15 p.m. on Federal workdays. Persons may also provide comments via e-mail at RLE@NRC.GOV. The NRC maintains an Agencywide Documents and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Mr. Richard L. Emch, Jr., Senior Project Manager, Office of Nuclear Reactor Regulation, U.S. Nuclear Regulatory Commission, Washington, DC, 20555-0001; telephone 301-415-1590 or by e-mail at rle@nrc.gov.

SUPPLEMENTARY INFORMATION: Attachment 1 to this Federal Register notice, entitled Staff Position and Rationale for the Proposed License Renewal Interim Staff Guidance LR-ISG-2006-03: Staff Guidance for Preparing Severe Accident Mitigation Alternatives (SAMA) Analyses contains the NRC staff's rationale for publishing the proposed LR-ISG-2006-03. Attachment 2 to this Federal Register notice, entitled Proposed License Renewal Interim Staff Guidance LR-ISG-2006-03: Staff Guidance for Preparing Severe Accident Mitigation Alternatives (SAMA) Analyses, contains the guidance for preparing SAMA analyses related to license renewal applications.

The NRC staff is issuing this notice to solicit public comments on the proposed LR-ISG-2006-03. After the NRC staff considers any public comments, it will make a determination regarding the proposed LR-ISG.

Dated at Rockville, Maryland, this 10th day of August 2006.
For the Nuclear Regulatory Commission.
Pao-Tsin Kuo,
Deputy Director Division of License Renewal, Office of Nuclear Reactor Regulation.

Attachment 1—Staff Position and Rationale for the Proposed License Renewal Interim Staff Guidance LR-ISG-2006-03: Staff Guidance for Preparing Severe Accident Mitigation Alternatives (SAMA) Analyses

Staff Position:

The NRC staff recommends that applicants for license renewal follow the guidance provided in Nuclear Energy Institute NEI 05-01, “Severe Accident Mitigation Alternatives (SAMA) Analysis—Guidance Document,” Rev. A when preparing their SAMA analyses.

Rationale:

The Nuclear Energy Institute (NEI) developed a generic Guidance Document NEI 05-01, Rev. A, to help clarify the NRC staff's expectations regarding the information that needs to be included in SAMA analyses. The NRC staff reviewed and concluded that NEI 05-01, Rev. A describes existing NRC regulations, and facilitates complete preparation of SAMA analysis submittals. The staff finds that utilization of the guidance provided in NEI 05-01, Rev. A will result in improved quality in SAMA analyses and a reduction in the number of requests for additional information.

Attachment 2—Proposed License Renewal Interim Staff Guidance LR-ISG-2006-03: Staff Guidance for Preparing Severe Accident Mitigation Alternatives (SAMA) Analyses

Introduction

A Severe Accident Mitigation Alternatives (SAMA) analyses is required as part of a license renewal application, if a SAMA analysis has not already been performed for the plant and reviewed by the NRC staff. SAMA analyses have been performed and submitted to the NRC as part of all the applications for license renewal received by the staff thus far. Therefore, this LR-ISG is being proposed consistent with our goal to more efficiently resolve license renewal issues identified by the staff or the industry.

Background and Discussion

After receiving extensive requests for additional information regarding the SAMA analyses, several applicants for license renewal concluded that they did not fully understand the kind of information that the NRC staff was expecting to see in SAMA analyses.

The Nuclear Energy Institute (NEI) developed a generic guidance document to help clarify the NRC staff's expectations regarding the information that needs to be submitted in SAMA analyses. On April 8, 2005, NEI submitted NEI 05-01, “Severe Accident Mitigation Alternatives (SAMA) Analysis—Guidance Document.” The NRC staff reviewed this guidance document, and by letter, dated July 12, 2005, provided comments on NEI 05-01. The NRC staff's comments were discussed during a public meeting between NEI and NRC on July 21, 2005.

On February 17, 2006, NEI submitted its NEI 05-01, Rev. A, dated November 2005. The NRC staff reviewed and concluded that this version fully resolved the NRC staff's comments. In addition, the NRC staff concluded that NEI 05-01, Rev. A, describes existing NRC regulations, and facilitates complete preparation of SAMA analysis submittals.

Some applicants for license renewal have submitted SAMA analyses using the guidance provided in NEI 05-01, Rev A. The NRC staff found improved quality in the submitted SAMA analyses and a reduction in the number of requests for additional information for those applications that followed the guidance provided in NEI 05-01, Rev. A.

Proposed Action

The staff is proposing that applicants for license renewal follow the guidance provided in NEI 05-01, Rev. A when preparing their SAMA analyses. The staff finds that NEI 05-01, Rev. A, describes existing NRC regulations, and facilitates complete preparation of SAMA analysis submittals.

Although this proposed LR-ISG does not convey a change in the NRC's regulations or how they are being interpreted, it is being provided to facilitate complete preparation of future SAMA analysis submittals in support of applications for license renewal. The NRC staff plans to incorporate the guidance provided in NEI 05-01, Rev. A, into a future update of Supplement 1 to Regulatory Guide 4.2, “Preparation of Supplemental Environmental Reports for Applications to Renew Nuclear Power Plant Operating Licenses.” Because this LR-ISG provides a clarification of existing guidance with no additional requirements, the staff did not perform a backfit evaluation. For those that are interested in reviewing NEI 05-01, Rev. A, the Agencywide Documents Access and Management System (ADAMS) Accession Number is ML060530203.

[FR Doc. E6-13559 Filed 8-16-06; 8:45 am]

BILLING CODE 7590-01-P